DEPARTMENT OF HEALTH AND HUMAN SERVICES

National Institutes of Health

Center for Scientific Review; Amended Notice of Meeting

Notice is hereby given of a change in the meeting of the Cardiovascular Differentiation and Development Study Section, October 09, 2013, 08:00 a.m. to October 09, 2013, 06:00 p.m., Hyatt Regency Bethesda, One Bethesda Metro Center, 7400 Wisconsin Avenue, Bethesda, MD 20814 which was published in the Federal Register on September 10, 2013, 78 FR 55267.

The meeting will be held on December 10, 2013 from 08:00 p.m. to 06:00 p.m. The meeting location remains the same. The meeting is closed to the public.

Dated: October 25, 2013.
Carolyn A. Baum,
Program Analyst, Office of Federal Advisory Committee Policy.

[FR Doc. 2013-25684 Filed 10-29-13; 8:45 am]

BILLING CODE 4140-01-P